NUCLEAR REGULATORY COMMISSION

[Docket No. 50-482; NRC-2010-0286]

Wolf Creek Nuclear Operating Corporation; Notice of Withdrawal of Application for Amendment to Renewed Facility Operating License

The U.S. Nuclear Regulatory Commission (NRC, the Commission) has granted the request of Wolf Creek Nuclear Operating Corporation (the licensee) to withdraw its application dated November 20, 2009, as supplemented by letter dated April 6, 2010, for a proposed amendment to Renewed Facility Operating License No. NPF-42 for the Wolf Creek Generating Station, located in Coffey County, Kansas.

The proposed amendment would have revised the facility technical specifications (TSs) pertaining to TS 3.8.1, “AC [Alternating Current] Sources—Operating,” by adding a note to the Required Actions B.3.1 and B.3.2 to indicate that the TS 3.8.1 Required Actions B.3.1 and B.3.2 are satisfied if the diesel generator (DG) became inoperable due to an inoperable support system, an independently testable component, or preplanned preventive maintenance or testing. The licensee also proposed to revise the Completion Times for Required Actions B.3.1 and B.3.2 to specify a Completion Time based on the discovery of an issue or failure of the DG.

The Commission had previously issued a Notice of Consideration of Issuance of Amendment published in the Federal Register on January 26, 2010 (75 FR 4121). However, by letter dated August 10, 2010, the licensee withdrew the proposed change.

For further details with respect to this action, see the application for amendment dated November 20, 2009 (Agencywide Documents Access and Management System (ADAMS) Accession No. ML093310430), as supplemented by letter dated April 6, 2010 (ADAMS Accession No. ML101031093), and the licensee's letter dated August 10, 2010 (ADAMS Accession No. ML102300387), which withdrew the application for license amendment. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland this 20th day of August 2010.
For the Nuclear Regulatory Commission.
Balwant K. Singal,
Senior Project Manager, Plant Licensing Branch IV, Division of perating Reactor Licensing, Office of Nuclear Reactor Regulation.

[FR Doc. 2010-21344 Filed 8-26-10; 8:45 am]

BILLING CODE 7590-01-P